DEPARTMENT OF TRANSPORTATION

Maritime Administration

[Docket No. MARAD-2019-0012]

Deepwater Port License Application: Texas COLT LLC; Correction

AGENCY: Maritime Administration, DOT.

ACTION: Correcting amendments.

SUMMARY: On December 30, 2019, the Maritime Administration (MARAD) and the U.S. Coast Guard (USCG) announced the cancellation of all actions related to the processing of a license application for the proposed Texas COLT LLC deepwater port including cancellation of all activities related to the preparation of an Environmental Impact Statement that was announced on Friday, March 8, 2019, in Federal Register Volume 84 Number 46 (Notice of Intent; Notice of Public Meeting; Request for Comments). The document inadvertently described the proposed Texas COLT LLC deepwater port as a liquified natural gas deepwater port facility. This document corrects the previous notice by describing the Texas COLT LLC deepwater port as an oil deepwater port facility.

DATES: Applicable on January 16, 2020.

FOR FURTHER INFORMATION CONTACT: Mr. Ken Smith, USCG, telephone: 202-372-1413, email: Ken.A.Smith@uscg.mil; or Mr. Linden Houston, MARAD, telephone: 202-366-4839, email: Linden.Houston@dot.gov.

SUPPLEMENTARY INFORMATION: In FR Doc. 2019-28137 appearing on page 72129 in the Federal Register on Monday, December 30, 2019, the following corrections are made:

1. On page 72130, under SUPPLEMENTARY INFORMATION: On December 10, 2019, MARAD received notification from the applicant of the withdrawal of its application to own, construct, and operate a deepwater port for a liquefied natural gas deepwater port facility, located approximately 27.8 nautical miles off the coast of Brazoria County, Texas in a water depth of approximately 110 feet and connected to existing offshore pipelines.” is corrected to read SUPPLEMENTARY INFORMATION: On December 10, 2019, MARAD received notification from the applicant of the withdrawal of its application to own, construct, and operate a deepwater port for an oil deepwater port facility, located approximately 27.8 nautical miles off the coast of Brazoria County, Texas in a water depth of approximately 110 feet and connected to existing offshore pipelines.”

* * * * *

Dated: January 13, 2020.
By Order of the Maritime Administrator.
T. Mitchell Hudson, Jr.,
Secretary, Maritime Administration.

[FR Doc. 2020-00615 Filed 1-15-20; 8:45 am]

BILLING CODE 4910-81-P